DEPARTMENT OF ENERGY

Federal Energy Regulatory Commission

[Docket No. QF87-407-005]

Pedricktown Cogeneration Limited Partnership; Notice of Application for Commission Recertification of Qualifying Status of a Cogeneration Facility

May 22, 2000.

Take notice that on May 16, 2000, Pedricktown Cogeneration Limited Partnership, 143 Highway 130, Pedricktown, NJ 08067, filed with the Federal Energy Regulatory Commission an application for recertification of a facility as a qualifying cogeneration facility pursuant to Section 292.207(a) of the Commission's Regulations. No determination has been made that the submittal constitutes a complete filing. The facility is a topping-cycle cogeneration facility with a maximum net electric power production capacity of 117.8 MW. It is interconnected with Atlantic City Electric Company and sells electric capacity and energy on a merchant basis in PJM.

The Commission previously certified the facility as a qualifying cogeneration facility in docket No. QF87-407-000, Pedricktown Cogeneration Limited Partnership, 41 FERC ¶ 62,025 (1987) and recertified the facility as a qualifying cogeneration facility in Docket No. QF87-407-003, 50 FERC ¶ 62,069 (1990) and Docket No. QF87-407-004, 73 FERC ¶ 62,108 (1995). Notices of Self-certification were filed on May 7, 1987 (Docket No. QF87-407-001) and on November 2, 1987 (Docket No. QF87-407-002).

Recertification is sought to reflect the proposed sale of half of the upstream ownership interests in the Facility and to report certain changes in operating mode resulting from recent contract restructuring.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 15, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-13224 Filed 5-25-00; 8:45 am]

BILLING CODE 6717-01-M